NUCLEAR REGULATORY COMMISSION

[NRC-2009-0336]

In the Matter of Entergy Nuclear Operations, Inc., et al.; Order Extending the Effectiveness of the Approval of the Indirect Transfer of Facility Operating Licenses

Entergy Nuclear Operations, Inc.
Entergy Nuclear Generation Company (Pilgrim Nuclear Power Station) | Docket No. 50-293. License No. DPR-35.
Entergy Nuclear Indian Point 2, LLC (Indian Point Nuclear Generating Unit Nos. 1 and 2) | Docket Nos. 50-003, 50-247) and 72-51. License Nos. DPR-5, DPR-26.
ENTERGY NUCLEAR INDIAN POINT 3, LLC (Indian Point Nuclear Generating Unit No. 3) | Docket No. 50-286. License No. DPR-64.
Entergy Nuclear Fitzpatrick, LLC (James A. FitzPatrick Nuclear Power Plant) | Docket Nos. 50-333 and 72-12. License No. DPR-59.
Entergy Nuclear Vermont Yankee, LLC (Vermont Yankee Nuclear Power Station) | Docket Nos. 50-271 and 72-59. License No. DPR-28.
Entergy Nuclear Palisades, LLC (Palisades Nuclear Plant) | Docket Nos. 50-255 and 72-7. License No. DPR-20.
(Big Rock Point) | Docket Nos. 50-155 and 72-43. License No. DPR-6.

I

Entergy Nuclear Operations, Inc. (ENO) and Entergy Nuclear Generation Company (Entergy Nuclear) are co-holders of the Facility Operating License, No. DPR-35, which authorizes the possession, use, and operation of the Pilgrim Nuclear Power Station (Pilgrim). Pilgrim is a boiling water nuclear reactor that is owned by Entergy Nuclear and operated by ENO. The facility is located on the western shore of Cape Cod in the town of Plymouth on the Entergy Nuclear site in Plymouth County, Massachusetts.

ENO and Entergy Nuclear Indian Point 2, LLC (ENIP2) are co-holders of the Facility Operating License No. DPR-5, which authorizes the possession of the Indian Point Nuclear Generating Unit No. 1 (IP1). IP1 is a pressurized water nuclear reactor that is owned by ENIP2 and maintained by ENO. IP1 was permanently shut down in 1974 and placed in a safe storage condition pending decommissioning. The facility is located in Westchester County, New York.

ENO and ENIP2 are co-holders of the Facility Operating License No. DPR-26, which authorizes the possession, use, and operation of the Indian Point Nuclear Generating Unit No. 2 (IP2). ENO and Entergy Nuclear Indian Point 3, LLC (ENIP3) are co-holders of the Facility Operating License No. DPR-64, which authorizes the possession, use, and operation of the Indian Point Nuclear Generating Unit No. 3 (IP3). IP2 and IP3 are both pressurized water nuclear reactors that are owned by ENIP2 and ENIP3, respectively, and operated by ENO. The facilities are located in Westchester County, New York.

ENO and Entergy Nuclear FitzPatrick, LLC (EN-FitzPatrick) are co-holders of the Facility Operating License No. DPR-59, which authorizes the possession, use, and operation of the James A. FitzPatrick Nuclear Power Plant (FitzPatrick). FitzPatrick is a boiling water nuclear reactor that is owned by EN-FitzPatrick and operated by ENO. The facility is located in Scriba, Oswego County, New York.

ENO and Entergy Nuclear Vermont Yankee, LLC (EN-Vermont Yankee) are co-holders of the Facility Operating License No. DPR-28, which authorizes the possession, use, and operation of the Vermont Yankee Nuclear Power Station (Vermont Yankee). Vermont Yankee is a boiling water nuclear reactor that is owned by EN-Vermont Yankee and operated by ENO. The facility is located in the town of Vernon, Windham County, Vermont.

ENO and Entergy Nuclear Palisades, LLC (EN-Palisades) are co-holders of the Renewed Facility Operating License No. DPR-20, which authorizes the possession, use, and operation of the Palisades Nuclear Plant (Palisades). Palisades is a pressurized water nuclear reactor that is owned by EN-Palisades and operated by ENO. The facility is located in Van Buren County, Michigan.

ENO and EN-Palisades are co-holders of the Facility Operating License No. DPR-06, which authorizes the possession of Big Rock Point. Big Rock Point is an independent spent fuel storage installation (ISFSI) that is owned by EN-Palisades and operated by ENO. The facility is located in Charlevoix County, Michigan.

II

The NRC's Orders dated July 28, 2008, consented to the indirect transfer of control of the licenses of the above facilities pursuant to § 50.80 of Title 10 of the Code of Federal Regulations in connection with a proposed corporate restructuring and establishment of Enexus Energy Corporation. By its terms, the Orders of July 28, 2008, would become null and void if the license transfers were not completed by July 28, 2009, unless upon application and for good cause shown, such date was extended by the Commission. By Order dated July 24, 2009, the NRC staff determined that good cause had been shown to extend the effectiveness of the Orders of July 28, 2008, through January 28, 2010. Similarly, by its terms, the Order of July 24, 2009, becomes null and void if the license transfers are not completed by January 28, 2010, unless upon application and for good cause shown, such date is extended by the Commission.

III

By letter dated November 3, 2009, as supplemented by letter dated December 10, 2009, ENO, acting on behalf of itself, Entergy Nuclear, ENIP2, ENIP3, EN-FitzPatrick, EN-Vermont Yankee, and EN-Palisades (together the Applicants), submitted a request for an extension of the effectiveness of the Orders of July 28, 2008, such that they would remain effective through August 1, 2010. According to the submittal, diligent efforts have been made to obtain the required State and Federal regulatory approvals, and many of the required approvals have been obtained. ENO has expressed confidence that it will receive all of the required approvals for the transaction. However, proceedings are ongoing before the New York State Public Service Commission (PSC) and the State of Vermont Public Service Board (PSB) and these two State agencies may not complete their regulatory approval processes in time to complete the restructuring and establishment of Enexus Energy Corporation prior to January 28, 2010, as required by the NRC Orders consenting to the proposed restructuring and associated indirect license transfers.

As indicated in ENO's letter dated August 18, 2009, an amended petition has been submitted to the New York PSC that includes several enhancements to the transaction. In Vermont, Entergy Nuclear Vermont Yankee, LLC, ENO, and Enexus have entered into a Memorandum of Understanding (MOU) with the Vermont Department of Public Service. This MOU must be approved by the Vermont PSB.

The Applicants are concerned that the transaction may not be completed by January 28, 2010, as required by the current Orders. Moreover, beginning in early 2010, there are certain “blackout periods” imposed by Federal regulations in connection with efforts to finalize the audited 2009 annual financial results for Entergy Corporation. Once such blackout periods begin, limitations on access to the financial markets would likely delay completion of the transaction until the June or July 2010 time frame.

As stated in the licensee's submittal, the conditions under which the NRC issued the Orders approving the license transfers have not changed significantly. The technical qualifications of the new organization and other bases for approving the transfers remain intact and the various inter-company contractual arrangements and financial support described in the application and supplemental information submitted to support the NRC staff's review and issuance of its safety evaluation (SE), remain valid and fully support the staff's findings. In support of the claim that the financial qualifications have not significantly changed, ENO submitted revised proprietary financial projections for the plant licensees and Enexus for the 5 calendar years 2010-2014 along with responses to staff questions regarding decommissioning funding assurance. As such, the current conditions continue to support the staff's findings regarding the technical and financial qualifications of the affected licensees.

The NRC staff has considered the submittal of November 3, 2009, as supplemented by letter dated December 10, 2009, and has determined that good cause to extend the effectiveness of the Orders of July 28, 2008, has been shown in that the delay in completing the transaction was not caused by the licensee. The findings set forth above are supported by a SE dated January 22, 2010.

IV

Accordingly, pursuant to Sections 161b, 161i, 161o, and 184 of the Atomic Energy Act of 1954, as amended, 42 U.S.C. 2201(b), 2201(i), 2201(o), and 2234; and 10 CFR 50.80, It is hereby ordered that the effectiveness of the Orders of July 28, 2008, described herein are extended such that if the proposed corporate restructuring and establishment of Enexus Energy Corporation is not consummated by August 1, 2010, the Orders of July 28, 2008, and July 24, 2009, shall become null and void, unless upon application and for good cause shown, such date is further extended by Order.

This Order is effective upon issuance.

For further details with respect to this Order, see the submittal dated November 3, 2009 (Agencywide Documents Access and Management System (ADAMS) Accession No. ML093100496), as supplemented by letter dated December 10, 2009 (ADAMS Accession No. ML093630884), and the SE dated January 22, 2010 (ADAMS Accession No. ML093620895), which may be examined, and/or copied for a fee, at the NRC's Public Document Room, located at One White Flint North, 11555 Rockville Pike (first floor), Rockville, MD, and accessible electronically through the ADAMS Public Electronic Reading Room link at the NRC Web site: http://www.nrc.gov.

Dated at Rockville, Maryland, this 22 day of January 2010.
For the Nuclear Regulatory Commission.
Charles L. Miller,
Director, Office of Federal and State Materials and Environmental Management Programs.
Joseph G. Giitter,
Director, Division of Operating Reactor Licensing, Office of Nuclear Reactor Regulation.
Michael F. Weber,
Director, Office of Nuclear Material Safety and Safeguards.

[FR Doc. 2010-2139 Filed 2-1-10; 8:45 am]

BILLING CODE 7590-01-P